DEPARTMENT OF THE INTERIOR

Bureau of Land Management

[WO-100-03-1820-PG]

Science Advisory Board

AGENCY: Bureau of Land Management, Interior.

ACTION: Notice of public meeting.

SUMMARY: In accordance with the Federal Advisory Committee Act of 1972 (FACA), the U.S. Department of the Interior, Bureau of Land Management (BLM), Science Advisory Board will meet as indicated below.

DATES: The meeting will be held January 21, 2003, in Room 7000A at 1849 C Street, NW., Washington, DC. The public comment period will begin at approximately 4:30 p.m., and the meeting will adjourn at approximately 5 p.m.

FOR FURTHER INFORMATION CONTACT: Lee Barkow, Bureau of Land Management, Denver Federal Center, Building 50, P.O. Box 25047, Denver, CO, 80225-0047, 303-236-6454.

SUPPLEMENTARY INFORMATION: The Science Advisory Board advises the Director of the Bureau of Land Management, on a variety of science issues. At this meeting, topics we plan to discuss include:

Introduction and Opening Comments

Review of Last Meeting's Decisions/Commitments

Director's New Science Issues

Report on BLM Science Activities for FY 2002

Briefing on the President's Healthy Forest Initiative

Presentation “Save our Fossils from Extinction”

Briefing on the BLM/DOE Partnerships in Science

Presentation and Discussion on the Science Strategy Implementation and

Staffing/Organization Plan

Discussion on University Curriculum for the Next Generation BLM Employee

The agenda is subject to revision.

All meetings are open to the public. The public may present written comments to the Board. Each formal Board meeting will also have time allocated for hearing public comments. Depending on the number of persons wishing to comment and time available, the time for individual oral comments may be limited. Individuals who plan to attend and need special assistance, such as sign language interpretation, tour transportation, or other reasonable accommodations, should contact the BLM as provided in FOR FURTHER INFORMATION CONTACT.

Lee Barkow,
Director, National Science and Technology Center.

[FR Doc. 02-31997 Filed 12-19-02; 8:45 am]

BILLING CODE 4310-84-P